DEPARTMENT OF STATE

22 CFR Part 171

[Public Notice: 9379]

RIN 1400-AD88

Privacy Act; STATE-81, Office of Foreign Missions Records

AGENCY: Department of State.

ACTION: Proposed rule.

SUMMARY: The Department of State is giving concurrent notice of a newly established system of records pursuant to the Privacy Act of 1974 for the Office of Foreign Missions Records, State-81 system of records and this proposed rulemaking. In this proposed rulemaking, the Department proposes to exempt portions of the system of records from one or more provisions of the Privacy Act of 1974.

DATES: Comments on this proposed rule are due by January 26, 2016.

FOR FURTHER INFORMATION CONTACT: John Hackett, Director; Office of Information Programs and Services, A/GIS/IPS; Department of State, SA-2; 515 22nd Street NW., Washington, DC 20522-8001, or at Privacy@state.gov.

SUPPLEMENTARY INFORMATION: The Department of State maintains the Office of Foreign Missions Records system of records. The primary purpose of this system of records relates to the implementation of the Foreign Missions Act, the operation of foreign missions, and the United States' extension of privileges, exemptions, immunities, benefits, and courtesies to foreign government officials, members/employees and officers of foreign missions and certain international organizations in the United States, their immediate family members, and domestic workers who are in the United States in nonimmigrant A-3 or G-5 visa status.

The Department of State is issuing this document as a notice to amend 22 CFR part 171 to exempt portions of the Office of Foreign Missions Records system of records from the Privacy Act subsections (c)(3); (d); (e)(1); (e)(4)(G), (H), and (I); and (f) of the Privacy Act pursuant to 5 U.S.C. 552a(k)(2). STATE-81 is exempted under (k)(2) to the extent that records within that system are comprised of investigatory material compiled for law enforcement purposes, subject to the limitations set forth in that section.

List of Subjects in 22 CFR Part 171

Administrative practice and procedure; Classified information; Confidential business information; Freedom of information; Privacy.

For the reasons stated in the preamble, 22 CFR part 171 is proposed to be amended as follows:

PART 171—[AMENDED]

1. The authority citation continues to read as follows:

Authority: 5 U.S.C. 552, 552a; 22 U.S.C. 2651a; Pub. L. 95-521, 92 Stat. 1824, as amended; E.O. 13526, 75 FR 707; E.O. 12600, 52 FR 23781, 3 CFR, 1987 Comp., p. 235.

2. Amend § 171.36 by adding an entry, in alphabetical order, for “The Office of Foreign Missions Records, State-81” to the lists in paragraph (b)(2)

Joyce A. Barr,
Assistant Secretary for Administration, U.S. Department of State.

[FR Doc. 2015-31551 Filed 12-16-15; 8:45 am]

BILLING CODE 4710-43-P